DEPARTMENT OF ENERGY

Federal Energy Regulatory Commission

[Docket No. CP01-35-000]

Southern Natural Gas Company; Notice of Application

November 30, 2000.

Take notice that on November 21, 2000, Southern Natural Gas Company (Southern), Post Office Box 2563, Birmingham, Alabama 35202-2563, filed in Docket No. CP01-35-000 an application pursuant to Section 7(c) of the Natural Gas Act for a certificate of public convenience and necessity to construct and operate certain pipeline looping facilities on its South Georgia Facilities, all as more fully set forth in the application which is on file with the Commission and open to public inspection. This filing may be viewed on the web at http://www.ferc.fed.us./online/rims.htm (call (202) 208-2222 for assistance).

Southern states that on August 1, 2000, South Georgia Natural Gas Company (South Georgia), which had been a wholly owned subsidiary of Southern, was merged into Southern. Southern states that the former South Georgia facilities are now owned and operated by Southern as part of its system and known as the South Georgia Facilities. Southern further states that customers benefiting from the South Georgia Facilities continue to pay rates applicable only to the South Georgia Facilities pursuant to the May 31, 2000, Order on Uncontested Settlement and Granting Certificate Authorization in Docket No. RP99-496-000, et al.

Southern states that South Georgia conducted an open season that expired on July 14, 2000, to determine whether any shippers were interested in acquiring long-term Rate Schedule FT service on the South Georgia Facilities. As a result of the open season, Southern states that it has entered into long-term service agreements with seven shippers who have collectively subscribed for a total of 17,000 Mcf per day of firm transportation service on Southern's South Georgia Facilities. Southern states that in order to provide this service, it seeks authorization to construct and operate 7.1 miles of 16-inch pipeline looping on the 12-inch main line of the South Georgia Facilities. Southern further states that the pipeline looping will extend from the discharge side of Southern's Holy Trinity Compressor Station in Russell County, Alabama to the beginning of its 16-inch loop in Stewart County, Georgia.

Southern states that the estimated cost of the proposed project is $6.0 million. Southern further states that the project will be financed through the use of available cash on hand and cash from operations. Southern states that it plans to include the costs and revenues attributable to the proposed facilities in the cost of service and revenues for its South Georgia Facilities on a rolled-in basis in future rate proceedings.

Questions regarding the details of this proposed project should be directed to John Griffin, Southern Natural Gas Company, Post Office Box 2563, Birmingham, Alabama 35202-2563, call (205) 325-7133.

There are two ways to become involved in the Commission's review of this project. First, any person wishing to obtain legal status by becoming a party to the proceedings for this project should, on or before December 21, 2000, file with the Federal Energy Regulatory Commission, 888 First Street, NE, Washington, D.C. 20426, a motion to intervene in accordance with the requirements of the Commission's Rules of Practice and Procedure (18 CFR 385.214 or 385.211) and the Regulations under the NGA (18 CFR 157.10). A person obtaining party status will be placed on the service list maintained by the Secretary of the Commission and will receive copies of all documents filed by the applicant and by all other parties. A party must submit 14 copies of filings made with the Commission and must mail a copy to the applicant and to every other party in the proceeding. Only parties to the proceeding can ask for court review of Commission orders in the proceeding.

However, a person does not have to intervene in order to have comments considered. The second way to participate is by filing with the Secretary of the Commission, as soon as possible, an original and two copies of comments in support of or in opposition to this project. The Commission will consider these comments in determining the appropriate action to be taken, but the filing of a comment alone will not serve to make the filer a party to the proceeding. The Commission's rules require that persons filing comments in opposition to the project provide copies of their protests only to the party or parties directly involved in the protest.

Persons who wish to comment only on the environmental review of this project should submit an original and two copies of their comments to the Secretary of the Commission. Environmental commenters will be placed on the Commission's environmental mailing list, will receive copies of the environmental documents, and will be notified of meetings associated with the Commission's environmental review process. Environmental commenters will not be required to serve copies of filed documents on all other parties. However, the non-party commenters will not receive copies of all documents filed by other parties or issued by the Commission (except for the mailing of environmental documents issued by the Commission) and will not have the right to seek court review of the Commission's final order.

The Commission may issue a preliminary determination on non-environmental issues prior to the completion of its review of the environmental aspects of the project. This preliminary determination typically considers such issues as the need for the project and its economic effect on existing customers of the applicant, on other pipelines in the area, and on landowners and communities. For example, the Commission considers the extent to which the applicant may need to exercise eminent domain to obtain rights-of-way for the proposed project and balances that against the non-environmental benefits to be provided by the project. Therefore, if a person has comments on community and landowner impacts from this proposal, it is important either to file comments or to intervene as early in the process as possible.

Comments and protests may be filed electronically via the Internet in lieu of paper. See, 18 CFR 385.2001(a)(1)(iii) and the instructions on the Commission's web site at http://www.ferc.fed.us/efi/doorbell.htm.

If the Commission decides to set the application for a formal hearing before an Administrative Law Judge, the Commission will issue another notice describing that process. At the end of the Commission's review process, a final Commission order approving or denying a certificate will be issued.

David P. Boergers,
Secretary.

[FR Doc. 00-30984 Filed 12-5-00; 8:45 am]

BILLING CODE 6717-01-M